DEPARTMENT OF THE INTERIOR

Bureau of Land Management

[223 LLUT925000 L14400000.BJ0000 LXSSJ0730000 241A]

Filing of Plats of Survey; Utah

AGENCY: Bureau of Land Management, Interior.

ACTION: Notice of filing.

SUMMARY: The Bureau of Land Management (BLM) will file the plats of survey of the lands described below in the BLM Utah State Office, Salt Lake City, Utah, 30 calendar days from the date of this publication.

DATES: A person or party who wishes to protest one or more of the plats of survey must file a written notice by March 16, 2022.

ADDRESSES: Written notices protesting a survey must be sent to the Utah State Director, BLM Utah State Office, 440 West 200 South, Suite 500, Salt Lake City, Utah 84101-1345.

FOR FURTHER INFORMATION CONTACT: Matthew J. Kurchinski, Chief Cadastral Surveyor for Utah, BLM, Branch of Geographic Sciences, 440 West 200 South, Suite 500, Salt Lake City, Utah 84101-1345, telephone (801) 539-4139, or email mkurchin@blm.gov. Persons who use a telecommunications device for the deaf (TDD) may call the Federal Relay Service (FRS) at (800) 877-8339 to contact the above individual during normal business hours. The FRS is available 24 hours a day, seven days a week, to leave a message or question with the above individual. Replies are provided during normal business hours.

SUPPLEMENTARY INFORMATION: These surveys were executed at the request of the BLM's Price Field Office and are necessary for the management of these lands. The lands surveyed are represented on the following plats of survey:

Salt Lake Meridian, Utah

T. 22 S., R. 6 E., Group No. 1444, accepted December 28, 2021.

T. 17 S., R. 9 E., Group No. 1431, accepted December 28, 2021.

T. 19 S., R. 10 E., Group No. 1433, accepted December 30, 2021.

T. 26 S., R. 10 E., Group No. 1446, accepted December 14, 2021.

T. 25 S., R. 11 E., Group No. 1446, accepted December 14, 2021.

T. 26 S., R. 11 E., Group No. 1446, accepted December 14, 2021.

T. 19 S., R. 14 E., Group No. 1445, accepted December 28, 2021.

Copies of the plats of survey and related field notes will be placed in the open files. They will be available for public review in the BLM Utah State Office as a matter of information.

A person or party who wishes to protest one or more of the above surveys must file a written notice within 30 calendar days from the date of this publication with the Utah State Director, BLM, at the address listed in the ADDRESSES section, stating they wish to protest. The notice of protest must identify the plat(s) of survey the person or party wishes to protest. A statement of reasons for the protest, if not filed with the notice of protest, must be filed with the Utah State Director within 30 calendar days after the notice of protest is filed. If a notice of protest against a plat of survey is received prior to the date of official filing, the filing will be stayed pending consideration of the protest. The plat will not be officially filed until the day after all protests have been dismissed or otherwise resolved.

Before including your address, phone number, email address, or other personal identifying information in your protest, you should be aware that your entire protest—including your personal identifying information—may be made publicly available at any time. While you can ask us to withhold your personal identifying information from public review, we cannot guarantee we will be able to do so.

Authority: 43 U.S.C. Chap. 3.

Matthew J. Kurchinski,
Chief Cadastral Surveyor for Utah.

[FR Doc. 2022-03093 Filed 2-11-22; 8:45 am]

BILLING CODE 4310-HQ-P